DEPARTMENT OF COMMERCE

International Trade Administration

[A-201-845]

Agreement Suspending the Antidumping Duty Investigation on Sugar From Mexico: Final Results of the 2019-2020 Administrative Review; Correction

AGENCY: Enforcement and Compliance, International Trade Administration, Department of Commerce.

ACTION: Notice; correction.

SUMMARY: The Department of Commerce (Commerce) published a notice in the Federal Register of July 6, 2022, in which Commerce announced the final results of the 2019-2020 administrative review of the Agreement Suspending the Antidumping Duty Investigation on Sugar from Mexico (AD Agreement). In this notice, Commerce inadvertently listed an incorrect period of review (POR) for the administrative review.

FOR FURTHER INFORMATION CONTACT: Sally C. Gannon or David Cordell, Enforcement and Compliance, International Trade Administration, U.S. Department of Commerce, 1401 Constitution Avenue NW, Washington, DC 20230; telephone: (202) 482-0162 or (202) 482-0408, respectively.

SUPPLEMENTARY INFORMATION:

Correction

In the Federal Register of July 6, 2022, in FR Doc. 2022-14281, on page 40178, in the second column, correct the POR from “January 1, 2020 through December 31, 2020” to “December 1, 2019 through November 30, 2020.” In addition, on page 40178, in the second column, in footnote 1, correct the Federal Register citation from “87 FR 972” to “87 FR 932.”

Background

On July 6, 2022, Commerce published in the Federal Register notification of the final results of the 2019-2020 administrative review of the AD Agreement.¹ In this notice, we incorrectly listed the POR for the administrative review and cited an incorrect Federal Register page in footnote 1.

¹ See Agreement Suspending the Antidumping Duty Investigation on Sugar From Mexico: Final Results of the 2019-2020 Administrative Review, 87 FR 40178 (July 6, 2022).

Notification to Interested Parties

We are issuing and publishing these results of review in accordance with sections 751(a)(l) and 777(i)(l) of the Act and 19 CFR 351.213 and 19 CFR 351.221(b)(5).

Dated: July 8, 2022.
Lisa W. Wang,
Assistant Secretary for Enforcement and Compliance.

[FR Doc. 2022-15086 Filed 7-13-22; 8:45 am]

BILLING CODE 3510-DS-P